DEPARTMENT OF THE INTERIOR

Bureau of Land Management

[CA-360-1430-EU; CACA-47028]

Notice of Realty Action: Proposed Direct (Non-Competitive) Sale of Public Lands in Siskiyou County, CA

AGENCY: Bureau of Land Management, Interior.

ACTION: Notice of realty action.

SUMMARY: The Bureau of Land Management (BLM) proposes to sell a 0.07 acre parcel of federally owned land in Siskiyou County, located in Yreka, California. The public land has been examined and found suitable for disposal utilizing direct sale procedures. The authority for the sale is established under sections 203 and 209 of the Federal Land Policy and Management Act of 1976 (FLPMA) (43 U.S.C. 1713 and 1719) and the Federal Land Transaction Facilitation Act (FLTFA) of July 25, 2000, (43 U.S.C. 2301).

DATES: Comments regarding the proposed sale must be received by the BLM Redding Field Office on or before December 7, 2007.

ADDRESSES: Written comments concerning the proposed sale must be submitted to: Field Manager, Bureau of Land Management, Redding Field Office, 355 Hemsted Drive, Redding, CA 96002.

FOR FURTHER INFORMATION CONTACT: You may contact the Redding Field Office, (530) 224-2100 from 7:30 a.m to 4:30 p.m., Monday through Friday (except Federal Holidays), and ask to have your call directed to Ilene Emry, Realty Specialist.

SUPPLEMENTARY INFORMATION: The public land is located in Yreka, California and will be offered for sale utilizing non-competitive (direct sale) procedures in Siskiyou County.

Mount Diablo Meridian, California

T. 45 N., R. 7 W.,

Section 22, lot 13.

The area described contains 0.07 acres more or less in Siskiyou County.

This parcel of public land is proposed for sale to Tom and Kris McCullough, the adjacent landowners, at not less than appraised fair market value (FMV) as determined by the authorized officer after appraisal.

As stated, the public land is proposed for sale subject to the applicable provisions of sections 203 and 209 of the FLPMA, as well as regulations at 43 CFR Parts 2710 and 2720. The sale disposal is carried out in accordance with section 205 of the Federal Land Transaction Facilitation Act of July 25, 2000 (FLTFA) (43 U.S.C. 2304), in which the proceeds from the sale of the lands will be deposited into the Federal Land Disposal account.

Consistent with FLPMA section 203, the tract of public land may be sold as a result of approved land use planning if the sale of the tract meets the disposal criteria.

The subject parcel is identified as suitable for disposal in the BLM Redding Resource Management Plan (RMP) approved July 27, 1993. The identified land is not needed for any Federal purpose.

This sale also meets the criteria found in Title 43 CFR 2710.0-3(a)(2) which states “Disposal of such tract shall serve important public objectives, including but not limited to, expansion of communities and economic development which cannot be achieved prudently or feasibly on lands other that public lands and which outweigh other public objectives and values, including, but not limited to recreation and scenic values, which would be served by maintaining such tract in Federal ownership.”

The disposal (sale) of lands also meets the criteria found under 43 CFR 2710.0-3(a)(3) where “such a tract, because of its location or other characteristics is difficult and uneconomic to manage as part of the public lands, and is not suitable for management by another Federal department or agency”.

BLM regulations at 43 CFR 2711.3-3(a) provide: “Direct sales (without competition) may be utilized, when in the opinion of the authorized officer, a competitive sale is not appropriate and the public interest would best be served by a direct sale”.

The BLM Redding Field Manager has determined that a non-competitive (direct sale) will be in the best interest of the public in facilitating overall administration of public lands. The FLPMA authorized the use of direct sale of public lands to recognize public policies by giving preference to users such as the adjoining landowners. The BLM parcel is a small uneconomic remnant that is surrounded by private land owned by the McCulloughs in a developing subdivision.

The potential buyer of the parcel will make application under section 209 of the Federal Land Policy and Management Act of October 21, 1976, to purchase the mineral estate along with the surface.

Conveyance of the available mineral interests pursuant to Section 209 of the FLPMA would occur simultaneously with the sale of the land. The mineral interests being offered for conveyance have no known mineral value. Acceptance of a direct sale offer will constitute an application for conveyance of those mineral interests. The applicant will be required to pay a $50.00 non-returnable filing fee for conveyance of the available mineral interests.

The patent, if issued, will be subject to the following terms, conditions and reservations: A reservation to the United States for ditches and canals constructed by the authority of the United States, Act of August 30, 1890 (43 U.S.C. 945).

No representation, warranty or covenant of any kind, express or implied, will be given or made by the United States, its officers or employees, as to access to or from the above described parcel of land, the title to the land, whether or to what extent the land may be developed, its physical condition or its past, present or potential uses, and the conveyance of any such parcel will not be on a contingency basis. It is the buyer's responsibility to be aware of all applicable Federal, State, any local government policies and regulations that would affect the subject lands. It is also the buyer's responsibility to be aware of existing or prospective uses of nearby properties. Any land lacking access from a public road or highway will be conveyed as such, and future access acquisition will be the responsibility of the buyer.

The environmental assessment and approved appraisal report covering the proposed sale are available for review at the BLM, Redding Field Office, Redding, California.

On December 7, 2007 the above described land will be segregated from appropriations under the public land laws, including the mining laws, except the sale provision of the FLPMA. The segregative effect will terminate upon issuance of a patent, publication in the December 7, 2007 of a termination of the segregation, or October 23, 2009, unless extended by the BLM California State Director in accordance with 43 CFR 2711.1-2(d) prior to the termination date.

The public land will not be offered for sale until December 7, 2007 at the appraised fair market value.

Public Comments: Interested parties and the general public may submit written comments to the BLM Redding Field Office at the address above. Comments transmitted via e-mail, facsimile, or telephone comments will not be accepted. Comments, including names and street addresses of respondents, will be available for public review in the BLM Redding Field Office during regular business hours, except holidays. The classification of the land described in this Notice will become effective December 24, 2007.

Before including your address, phone number, e-mail address, or other personal identifying information in your comment, you should be aware that your entire comment-including your personal identifying information-may be made publicly available at any time. While your can ask us in your comment to withhold your personal identifying information from public review, we cannot guarantee that we will be able to do so. Comments, including names and street address of respondents, will be available for public review at the BLM Redding Field Office during regular business hours, except holidays.

Any adverse comment regarding the proposed sale will be reviewed by the California State Director, who may sustain, vacate, or modify this realty action. In the absence of any objections, this proposal will become the final determination of the Department of the Interior.

(Authority: 43 CFR 2741.5)

Dated: October 16, 2007.
Steven W. Anderson,
Redding Field Office, Manager (CA-360).

[FR Doc. E7-20811 Filed 10-22-07; 8:45 am]

BILLING CODE 4310-40-P